NUCLEAR REGULATORY COMMISSION

Entergy Nuclear Fitzpatrick, LLC, and Entergy Nuclear Operations, Inc., James A. Fitzpatrick Nuclear Power Plant; Notice of Availability of the Final Supplement 31 to the Generic Environmental Impact Statement for License Renewal of Nuclear Plants, Regarding the License Renewal of James A. Fitzpatrick Nuclear Power Plant, Docket No. 50-333

Notice is hereby given that the U.S. Nuclear Regulatory Commission (NRC, Commission) has published a final site-specific supplement to the “Generic Environmental Impact Statement for License Renewal of Nuclear Plants (GEIS),” NUREG-1437, regarding the renewal of operating license DPR-59 for an additional 20 years of operation for the James A. FitzPatrick Nuclear Power Plant (JAFNPP). JAFNPP is located on Lake Ontario in Oswego County, approximately seven miles northeast of the City of Oswego, New York. Possible alternatives to the proposed action (license renewal) include no action and reasonable alternative energy sources.

As discussed in Section 9.3 of the final Supplement 31, based on: (1) The analysis and findings in the GEIS; (2) the Environmental Report submitted by Entergy Nuclear FitzPatrick, LLC, and Entergy Nuclear Operations, Inc.; (3) consultation with Federal, State, and local agencies; (4) the NRC staff's own independent review; and (5) the NRC staff's consideration of public comments, the recommendation of the staff is that the Commission determine that the adverse environmental impacts of license renewal for JAFNPP are not so great that preserving the option of license renewal for energy-planning decision makers would be unreasonable.

The final Supplement 31 to the GEIS is publicly available at the NRC Public Document Room (PDR), located at One White Flint North, 11555 Rockville Pike, Rockville, Maryland 20852, or from the NRC's Agencywide Documents Access and Management System (ADAMS).

The ADAMS Public Electronic Reading Room is accessible at http://adamswebsearch.nrc.gov/dologin.htm. The Accession Number for the final Supplement 31 to the GEIS is ML080170183. Persons who do not have access to ADAMS, or who encounter problems in accessing the documents located in ADAMS, should contact the NRC's PDR reference staff by telephone at 1-800-397-4209, or 301-415-4737, or by e-mail at pdr@nrc.gov. In addition, the libraries: Penfield Library SUNY, 7060 State Route 104, Oswego, New York 13126 and Oswego Public Library, 140-142 East Second Street, Oswego, New York 13126 have agreed to make the final supplement to the GEIS available for public inspection.

For Further Information Contact: Ms. Jessie M. Muir, Projects Branch 2, Division of License Renewal, Office of Nuclear Reactor Regulation, U.S. Nuclear Regulatory Commission, Mail Stop O-11F1, Washington, DC 20555-0001. Ms. Muir may be contacted by telephone at 1-800-368-5642, extension 0491 or via e-mail at jmm7@nrc.gov.

Dated at Rockville, Maryland, this 18th day of January 2008.
For the Nuclear Regulatory Commission.
Bo Pham,
Acting Branch Chief, Projects Branch 2, Division of License Renewal, Office of Nuclear Reactor Regulation.

[FR Doc. E8-1290 Filed 1-24-08; 8:45 am]

BILLING CODE 7590-01-P